DEPARTMENT OF ENERGY

Federal Energy Regulatory Commission

Combined Notice of Filings

Take notice that the Commission has received the following Natural Gas Pipeline Rate and Refund Report filings:

Filings Instituting Proceedings

Docket Numbers: RP17-407-002.

Applicants: National Fuel Gas Supply Corporation.

Description: National Fuel Gas Supply Corporation submits tariff filing per 154.205(b): Fuel Tracker Amended-Supply (Effective 06/01/17) to be effective 6/1/2017.

Filed Date: 04/13/2017.

Accession Number: 20170413-5273.

Comment Date: 5:00 p.m. Eastern Time on Tuesday, April 25, 2017.

Docket Numbers: RP17-623-001.

Applicants: Texas Eastern Transmission, LP.

Description: Texas Eastern Transmission, LP submits tariff filing per 154.205(b): Errata Filing for Updates to Cashout Mechanisms to be effective 5/1/2017.

Filed Date: 04/13/2017.

Accession Number: 20170413-5232.

Comment Date: 5:00 p.m. Eastern Time on Tuesday, April 25, 2017.

Docket Numbers: RP17-654-000.

Applicants: Transcontinental Gas Pipe Line Company.

Description: Transcontinental Gas Pipe Line Company, LLC submits tariff filing per 154.403: SS-2 Inventory Adjustment (2017) to be effective 5/1/2017.

Filed Date: 04/13/2017.

Accession Number: 20170413-5011.

Comment Date: 5:00 p.m. Eastern Time on Tuesday, April 25, 2017.

Docket Numbers: RP17-655-000.

Applicants: Algonquin Gas Transmission, LLC.

Description: Algonquin Gas Transmission, LLC submits tariff filing per 154.204: Negotiated Rates—Colonial Gas to BBPC—793649 & 793651 to be effective 5/1/2017.

Filed Date: 04/13/2017.

Accession Number: 20170413-5068.

Comment Date: 5:00 p.m. Eastern Time on Tuesday, April 25, 2017.

Docket Numbers: RP17-656-000.

Applicants: Equitrans, L.P.

Description: Equitrans, L.P. submits tariff filing per 154.203: Notice Regarding Non-Jurisdictional Gathering Facilities (F-1157 F-665 et al).

Filed Date: 04/13/2017.

Accession Number: 20170413-5307.

Comment Date: 5:00 p.m. Eastern Time on Tuesday, April 25, 2017.

Docket Numbers: RP17-657-000.

Applicants: TransCanada Power Marketing Ltd,TC Ironwood LLC.

Description: Joint Petition for Limited Waiver of TransCanada Power Marketing Ltd. and TC Ironwood, LLC and Request for Expedited Action.

Filed Date: 04/14/2017.

Accession Number: 20170414-5159.

Comment Date: 5:00 p.m. Eastern Time on Friday, April 21, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2017.
Kimberly D. Bose,
Secretary.

[FR Doc. 2017-08263 Filed 4-24-17; 8:45 am]

BILLING CODE 6717-01-P